DEPARTMENT OF DEFENSE

Draft Environmental Assessment for the Transport of Polychlorinated Biphenyl-Containing Items From Japan and Wake Island to the United States

AGENCY: Defense Logistics Agency, DoD.

ACTION: Notice of availability.

SUMMARY: The draft environmental assessment (EA) for the transport of items containing polychlorinated biphenyl (PCB) from Japan and Wake Island to the United States is available for public review and comment. The EA assesses the risks of transporting used electrical equipment and associated items containing PCBs to the U.S. by air and by sea for ultimate disposal at Environmental Protection Agency permitted facilities. This equipment is used for the benefit of the U.S. Military and is removed from service when it reaches the end of its useful life. This draft EA addresses three alternatives: transport by sea; transport by air; and no action. Approximately 2.8 million pounds of material including packaging is currently in storage at U.S. installations in Japan and Wake Island. An estimated 4.3 million pounds of material is still in use and will be removed from service during the next several years. The draft EA is available for public review at the Defense Logistics Agency Public Affairs Office and on the World Wide Web at http://www.dla.mil. The public is invited to comment on the draft EA for 30 days beginning with the publication of this notice. Comments should be sent to the Defense Logistics Agency, Attention: Mr. Jack Hooper, DLA-CP, 8725 John J. Kingman Road, Suite 2545, Fort Belvoir, VA 22060-6223.

FOR FURTHER INFORMATION CONTACT: Mr. Jack Hooper at (703) 767-5121.

Richard J. Connelly,
Director, DLA Support Services.

[FR Doc. 02-21788 Filed 8-27-02; 8:45 am]

BILLING CODE 3620-01-M